DEPARTMENT OF VETERANS AFFAIRS

[OMB Control No. 2900-New (HSNGV)]

Proposed Information Collection (Health Surveillance for a New Generation of U.S. Veterans); Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each proposed new collection, and allow 60 days for public comment in response to the notice. This notice solicits comments for information needed to plan and provide better health care for Operation Iraqi Freedom and Operation Enduring Freedom veterans.

DATES: Written comments and recommendations on the proposed collection of information should be received on or before May 16, 2008.

ADDRESSES: Submit written comments on the collection of information through http://www.Regulations.gov; or to Mary Stout, Veterans Health Administration (193E1), Department of Veterans Affairs, 810 Vermont Avenue, NW., Washington, DC 20420; or e-mail: mary.stout@va.gov. Please refer to “OMB Control No. 2900-New (HSNGV)]” in any correspondence. During the comment period, comments may be viewed online through the Federal Docket Management System (FDMS) at: http://www.Regulations.gov.

FOR FURTHER INFORMATION CONTACT: Mary Stout (202) 461-5867 or fax (202) 273-9381.

SUPPLEMENTARY INFORMATION: Under the PRA of 1995 (Pub. L. 104-13; 44 U.S.C. 3501—3521), Federal agencies must obtain approval from the Office of Management and Budget (OMB) for each collection of information they conduct or sponsor. This request for comment is being made pursuant to section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Health Surveillance for a New Generation of U.S. Veterans Survey.

OMB Control Number: 2900-New (New (HSNGV).

Type of Review: New collection.

Abstract: The Health Surveillance for a New Generation of U.S. Veterans survey will be used to collect data from Operation Iraqi Freedom and Operation Enduring Freedom veterans regarding their current health status and concerns, exposures of concern in the theater, health care preferences, and health behaviors and attitudes, and to gain knowledge on veterans who have not used VA health care since returning from the current conflict. The data collected will help VA to plan and provide better health care to Operation Iraqi Freedom and Operation Enduring Freedom veterans, as well as understanding the long-term consequences of military deployment.

Affected Public: Individuals or households.

Estimated Annual Burden: 24,858 hours.

Estimated Average Burden Per Respondent: 30-45 minutes.

Frequency of Response: Annually.

Estimated Number of Respondents: 37,600.

Dated: March 10, 2008.
By direction of the Secretary.
Denise McLamb,
Program Analyst, Records Management Service.

[FR Doc. E8-5195 Filed 3-14-08; 8:45 am]

BILLING CODE 8320-01-P